DEPARTMENT OF THE INTERIOR

National Park Service

Notice of Inventory Completion: Phoebe A. Hearst Museum of Anthropology, University of California, Berkeley, Berkeley, CA

AGENCY: National Park Service, Interior.

ACTION: Notice.

Notice is here given in accordance with the Native American Graves Protection and Repatriation Act (NAGPRA), 25 U.S.C. 3003, of the completion of an inventory of human remains and associated funerary objects in the possession of the Phoebe A. Hearst Museum of Anthropology, University of California, Berkeley, Berkeley, CA. The human remains and associated funerary objects were removed from Humboldt County, CA.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

An assessment of the human remains, and catalog records and associated documents relevant to the human remains, was made by Phoebe A. Hearst Museum of Anthropology professional staff in consultation with representatives of the Bear River Band of the Rohnerville Rancheria, California; Blue Lake Rancheria, California; and Table Bluff Reservation-Wiyot Tribe, California.

During the 1920s, human remains representing at least five individuals were removed from site CA¯Hum¯33, Humboldt County, CA, by H.H. Stuart, who donated the human remains to the Phoebe Hearst Museum during the 1930s. No known individuals were identified. No associated funerary objects are present.

Site CA¯Hum¯33 is located near Mad River Slough. Mr. Stuart reported that glass beads and metal objects were found at the site, indicating that the occupation of the site post-dates Euroamerican contact.

At an unknown time prior to 1902, human remains representing at least one individual were removed from site CA¯Hum¯67, Indian Island (formerly known as Gunther's Island), Humboldt County, CA, by an unknown individual. In 1905, the human remains were donated to the Phoebe A. Hearst Museum by Mr. Gunther. No known individuals were identified. No associated funerary objects are present.

In 1913, human remains representing at least 24 individuals were removed from CA¯Hum¯67, Humboldt County, CA, by L.L. Loud, an archeologist in the employ of the Phoebe A. Hearst Museum. No known individuals were identified. The 366 associated funerary objects are 4 mauls; 1 maul fragment; 4 adze handle fragments; 6 flint knives; 8 flint knife fragments; 10 flint points; 9 flint point fragments; 3 flint drills; 37 flint and quartz flakes and 2 lots of uncounted flakes; 4 olivella beads and 3 lots of uncounted beads; 2 dentalium bead fragments and 2 lots of uncounted beads; 7 lots of uncounted pine nut beads; 3 lots of vibernum beads; 5 shell pendants; 2 stone pipes; 10 obsidian knives; 9 obsidian knife fragments; 23 obsidian points; 5 obsidian point fragments; 1 obsidian drill; 3 obsidian flakes; 12 stone sinkers; 4 sinker fragments; 27 stone pestles; 2 pestle fragments; 1 hammerstone; 8 stones; 3 serpentine clubs; 3 bone pendant fragments; 5 bone tool fragments; 1 bone bead; 7 complete or fragmentary chisels or gouges; 3 mammal bones; 22 bone whistle fragments; 1 fish bone; 2 lots of abalone fragments; 4 lots of marine shell fragments; 1 lot of basketry fragments; 1 lot of organic material; 1 lot of vegetal fiber; 1 lot of floor fragments; 4 charcoal samples; 82 clay balls and 3 lots of clay ball fragments; 1 clay pipe fragment; 1 crab claw; and 1 stone bowl fragment.

Stylistic attributes of material culture found at site Ca¯Hum¯67 indicate that the site was occupied after A.D. 900.

At an unknown date, human remains representing at least two individuals were removed from CA¯Hum¯112, Humboldt County, CA, by H.H. Stuart. Mr. Stuart donated the human remains to the Phoebe A. Hearst Museum in the 1930s. No known individuals were identified. The one associated funerary object is fused glass beads.

In 1953, human remains representing at least one individual were removed from CA¯Hum¯112, Humboldt County, CA, by University of California Archaeology Survey staff James Bennyhoff and Albert Elsasser during excavations conducted following looting of the site. No known individual was identified. The 11 associated funerary objects are 9 lots of glass trade beads, 1 piece of flaked bottle glass, and 1 piece of wood from a coffin.

The circumstances of burial indicate that the human remains described above are Native American in origin. Oral history and continuities in material culture traits indicate that the Wiyot have lived in the vicinity of Humboldt and Arcata Bays, an area that includes the locations of sites CA¯Hum¯33, CA¯Hum¯67, and CA¯Hum¯112, for at least 600 years, pre-dating occupation of the sites. This evidence indicates that sites CA¯Hum¯33, CA¯Hum¯67, and CA¯Hum¯112 were occupied by Wiyot people. The modern-day representatives of the Wiyot are Table Bluff Reservation-Wiyot Tribe, California; and the Blue Lake Rancheria, California. Wiyot desendents also live in the Bear River Band of the Rohnerville Rancheria, California.

Officials of the Phoebe A. Hearst Museum of Anthropology have determined that, pursuant to 25 U.S.C. 3001 (9¯10), the human remains described above represent the physical remains of at least 33 individuals of Native American ancestry. Officials of the Phoebe A. Hearst Museum of Anthropology also have determined that, pursuant to 25 U.S.C. 3001 (3)(A), the 378 objects described above are reasonably believed to have been placed with or near individual human remains at the time of death or later as part of the death rite or ceremony. Lastly, officials of the Phoebe A. Hearst Museum of Anthropology have determined that, pursuant to 25 U.S.C. 3001 (2), there is a relationship of shared group identity that can be reasonably traced between the Native American human remains and associated funerary objects and the Bear River Band of the Rohnerville Rancheria, California; Blue Lake Rancheria, California; and Table Bluff Reservation-Wiyot Tribe, California.

Representatives of any other Indian tribe that believes itself to be culturally affiliated with the human remains and associated funerary objects should contact C. Richard Hitchcock, NAGPRA Coordinator, Phoebe A. Hearst Museum of Anthropology, University of California, Berkeley, Berkeley, CA 94720, telephone (510) 642¯6096, before November 12, 2004. Repatriation of the human remains and associated funerary objects to the Bear River Band of the Rohnerville Rancheria, California; Blue Lake Rancheria, California; and Table Bluff Reservation-Wiyot Tribe, California may proceed after that date if no additional claimants come forward.

The Phoebe A. Hearst Museum of Anthropology is responsible for notifying the Bear River Band of the Rohnerville Rancheria, California; Blue Lake Rancheria, California; and Table Bluff Reservation-Wiyot Tribe, California that this notice has been published.

Dated: September 15, 2004
Sherry Hutt,
Manager, National NAGPRA Program.

[FR Doc. 04-22826 Filed 10-8-04; 8:45 am]

BILLING CODE 4312-50-S